DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and marine mammals.

DATES: Written data, comments or requests must be received by January 18, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

PRT-811776

Applicant: Wildlife Conservation Society, Bronx, NY

The applicant requests re-issuance of a permit to import feathers dropped from wild and captive-hatched birds, which are obtained from various international institutions and through collections conducted during field studies, for the purpose of scientific research. This notification covers activities conducted by the applicant over a five year period.

PRT-110072

Applicant: White Oak Conservation Center, Yulee, FL

The applicant requests a permit to re-import a male greater Indian one-horn rhinoceros (Rhinoceros unicornis), captive bred in the United States, from Toronto Zoo, Canada, for the purpose of enhancement of the propagation and survival of the species.

PRT-007870

Applicant: National Zoological Park, Washington, DC

The applicant request reissuance of their permit for scientific research with captive-born giant pandas (Ailuropoda melanoleuca) currently held under loan agreement with the Government of China and under provisions of the USFWS Giant Panda Policy. The proposed research will cover all aspects of behavior, reproductive physiology, genetics, nutrition, and animal health and is a continuation of activities currently in progress. This notification covers activities conducted by the applicant over a period of five years.

PRT-104625 and 104626

Applicant: J & R Outfitters, Indiantown, FL

The applicant requests a permit to authorize interstate and foreign commerce, export and cull of excess male barasingha (Cervus duvauceli) from the captive herd maintained at their facility for the purpose of enhancement of the survival of the species. This notification covers activities to be conducted by the applicant over a five year period.

PRT-115344

Applicant: Forrest M. Simpson, Conroe, TX

The applicant requests a permit to authorize interstate and foreign commerce, export and cull of excess male barasingha (Cervus duvauceli) from the captive herd maintained at their facility for the purpose of enhancement of the survival of the species. This notification covers activities to be conducted by the applicant over a five year period.

PRT-113771

Applicant: Steve E. Payne West, Acampo, CA

The applicant requests a permit to import the sport-hunted trophy of one male bontebok (Damaliscus pygargus pygargus) culled from a captive herd maintained under the management program of the Republic of South Africa, for the purpose of enhancement of the survival of the species.

PRT-114470

Applicant: Patricia K. Kehler, Woodbury, NJ

The applicant requests a permit to import the sport-hunted trophy of one male bontebok (Damaliscus pygargus pygargus) culled from a captive herd maintained under the management program of the Republic of South Africa, for the purpose of enhancement of the survival of the species.

PRT-114761

Applicant: James W. Wolf, Ellicott City, MD

The applicant requests a permit to import the sport-hunted trophy of one male bontebok (Damaliscus pygargus pygargus) culled from a captive herd maintained under the management program of the Republic of South Africa, for the purpose of enhancement of the survival of the species.

PRT-114550

Applicant: Bradley S. Foster, Mishawaka, IN

The applicant requests a permit to import the sport-hunted trophy of one male bontebok (Damaliscus pygargus pygargus) culled from a captive herd maintained under the management program of the Republic of South Africa, for the purpose of enhancement of the survival of the species.

PRT-114513

Applicant: William R. Norris, Caledonia, MI

The applicant requests a permit to import the sport-hunted trophy of one male bontebok (Damaliscus pygargus pygargus) culled from a captive herd maintained under the management program of the Republic of South Africa, for the purpose of enhancement of the survival of the species.

PRT-115665

Applicant: Keith A. Platter, Hamilton, IN

The applicant requests a permit to import the sport-hunted trophy of one male bontebok (Damaliscus pygargus pygargus) culled from a captive herd maintained under the management program of the Republic of South Africa, for the purpose of enhancement of the survival of the species.

PRT-116076

Applicant: Robert E. Pitts, Toledo, OH

The applicant requests a permit to import the sport-hunted trophy of one male bontebok (Damaliscus pygargus pygargus) culled from a captive herd maintained under the management program of the Republic of South Africa, for the purpose of enhancement of the survival of the species.

PRT-114604

Applicant: Richard P. Shoemaker, Coplay, PA

The applicant requests a permit to import the sport-hunted trophy of one female brown hyena (Parahyaena brunnea) taken from the wild in the Republic of South Africa, for the purpose of enhancement of the survival of the species.

PRT-062075 and 064075

Applicant: The Hawthorn Corporation, Richmond, IL

The applicant requests permits to re-export and re-import captive-born tigers (Panthera tigris) to worldwide locations for the purpose of enhancement of the species through conservation education. The permit numbers and animals are: PRT-062075, Azara and PRT-064075, Sheeba. This notification covers activities to be conducted by the applicant over a three-year period and the import of any potential progeny born while overseas.

Marine Mammals

The public is invited to comment on the following applications for a permit to conduct certain activities with marine mammals. The applications were submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

PRT-115000

Applicant: Trent B. Latshaw, Broken Arrow, OK

The applicant requests a permit to import a polar bear (Ursus maritimus) sport hunted from the Norwegian Bay polar bear population in Canada for personal, noncommercial use.

Dated: December 2, 2005.
Monica Farris,
Senior Permit Biologist, Branch of Permits, Division of Management Authority.

[FR Doc. E5-7471 Filed 12-16-05; 8:45 am]

BILLING CODE 4310-55-P